DEPARTMENT OF ENERGY

Federal Energy Regulatory Commission

[Docket No. CP04-19-000]

Dominion Transmission, Inc.; Notice of Application

December 3, 2003.

Take notice that on November 24, 2003, Dominion Transmission, Inc. (Dominion), 120 Tredegar Street, Richmond, Virginia 23219, filed in Docket No. CP04-19-000, an application pursuant to section 7(b) of the Natural Gas Act (NGA), for permission and approval to abandon five gas storage wells in the Oakford Storage Complex in Westmoreland County, Pennsylvania, all as more fully set forth in the application which is on file with the Commission and open to public inspection. This filing may also be viewed on the Web at http://www.ferc.gov using the “eLibrary” link, select “Docket #” and follow the instructions (call 202-208-2222 for assistance).

Dominion states that the five gas storage wells are geographically located in the Oakford Storage Complex, and were intended for potential use as gas storage wells after the reservoir gas had been sufficiently depleted. However, the wells have never been utilized to provide storage service by either the injection or withdrawal of gas in the storage field. Dominion explains that the wells are, in essence, production wells and their plugging and abandonment will not affect the operational capabilities or diminution of service of the Oakford Storage Complex.

Any questions concerning this amendment may be directed to Anne E. Bomar, Managing Director, Attn.: Lorriane Cote, Dominion Transmission, Inc., 120 Tredegar Street, Richmond, Virginia 23219, at (804) 819-2881 or fax (804) 819-2064.

There are two ways to become involved in the Commission's review of this project. First, any person wishing to obtain legal status by becoming a party to the proceedings for this project should file with the Federal Energy Regulatory Commission, 888 First Street, NE., Washington, DC 20426, a motion to intervene in accordance with the requirements of the Commission's rules of practice and procedure (18 CFR 385.214 or 385.211) and the regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken; but the filing of a comment alone will not serve to make the filer a party to the proceeding. The Commission's rules require that persons filing comments in opposition to the project provide copies of their protests only to the party or parties directly involved in the protest.

Protests and interventions may be filed electronically via the Internet in lieu of paper; see, 18 CFR 385.2001(a)(1)(iii) and the instructions on the Commission's Web site under the “e-Filing” link. The Commission strongly encourages electronic filings.

Comment Date: December 15, 2003.

Magalie R. Salas,
Secretary.

[FR Doc. E3-00530 Filed 12-10-03; 8:45 am]

BILLING CODE 6717-01-P